DEPARTMENT OF AGRICULTURE

Submission for OMB Review; Comment Request

March 25, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Viral Hemorrhagic Septicemia (VHS); Interstate Movement and Import Restrictions on Certain Live Fish.

OMB Control Number: 0579-0340.

Summary of Collection: The Animal Health Protection Act of 2002 is the primary Federal law governing the protection of animal health. The Animal and Plant Health Inspection Service (APHIS) of the U.S. Department of Agriculture is charged with disease prevention. APHIS regulations in 9 CFR, part 93 govern the importation of certain species of fish to prevent the introduction or spread of specific pests and diseases of aquaculture facilities within the United States. APHIS is establishing regulations to prevent the introduction of VHS into U.S. aquaculture facilities by controlling the movement of certain live fish species at risk of harboring VHS. VHS is listed as a notifiable disease by the World Organization for Animal Health. APHIS will use several forms to collect necessary information.

Need and Use of the Information: APHIS will collect the necessary information using the Interstate Certificate of Inspection (ICI); Permit for Movement of Restricted Animals VS Form 1-27; Cleaning and Disinfection Certificate; Application for Import or In-Transit Permit VS Form 17-129; Health Certificate and a 72-hour advance notification by the importer notifying the APHIS port veterinarian. If the information was collected less frequently or not collected at all, it would significantly cripple APHIS' ability to prevent the introduction of VHS into U.S. aquaculture facilities by controlling the movement of live fish at risk of harboring VHS virus.

Description of Respondents: Business or other for-profit; State, Local or Tribal Government.

Number of Respondents: 10.

Frequency of Responses: Recordkeeping; Reporting: Annually.

Total Burden Hours: 1

Ruth Brown,
Departmental Information Collection Clearance Officer.

[FR Doc. E9-7028 Filed 3-27-09; 8:45 am]

BILLING CODE 3410-34-P